DEPARTMENT OF AGRICULTURE

Agricultural Marketing Service

[FV-01-331]

United States Standards for Grades of Dried Figs

AGENCY: Agricultural Marketing Service, USDA.

ACTION: Notice.

SUMMARY: The Agricultural Marketing Service (AMS) of the Department of Agriculture (USDA) is soliciting comments on its proposal to revise the United States Standards for Grades of Dried Figs. USDA has received a petition from a trade association to revise the current grade standards for dried figs by eliminating the present Grade “A” quality level and changing the present Grade “B” quality level to the new Grade “A”. This proposal also would elevate the present Grade “C” quality level to a new Grade “B” level thus eliminating the Grade “C” designation from the United States Standards for Grades of Dried Figs. The existing grade level Substandard would remain the same. These changes have been requested by the industry in order to bring the standards for dried figs in line with the present quality levels being marketed today and provide guidance in the effective utilization of dried figs.

DATES: Comments may be submitted on or before July 9, 2001.

ADDRESSES: Written comments may be submitted to: Lydia E. Berry, Processed Products Branch, Fruit and Vegetable Programs, Agricultural Marketing Service, U.S. Department of Agriculture, STOP 0247,1400 Independence Avenue SW., Washington, DC 20250-0247; fax (202) 690-1087; or e-mail lydia.berry@usda.gov.

Comments should reference the date and page of this issue of the Federal Register. All comments received will be made available for public inspection at the address listed above during regular business hours and on the Internet.

The current United States Standards for Grades of Dried Figs, along with the proposed changes, are available either through the address cited above or by accessing AMS's Home Page on the Internet at: www.ams.usda.gov/standards/. Any comments received, regarding this proposed standard will also be posted on that site.

FOR FURTHER INFORMATION CONTACT: Lydia E. Berry at (202) 720-5021 or e-mail at lydia.berry@usda.gov.

SUPPLEMENTARY INFORMATION: Section 203(c) of the Agricultural Marketing Act of 1946, as amended, directs and authorizes the Secretary of Agriculture “to develop and improve standards of quality, condition, quantity, grade and packaging and recommend and demonstrate such standards in order to encourage uniformity and consistency in commercial practices * * * ” AMS is committed to carrying out this authority in a manner that facilitates the marketing of agricultural commodities and makes copies of official standards available upon request. The United States Standards for Grades of Fruits and Vegetables no longer appear in the Code of Federal Regulations but are maintained by USDA/AMS/Fruit and Vegetable Programs.

AMS is proposing to revise the U.S. Standards for Grades of Dried Figs using the procedures that appear in part 36 of Title 7 of the Code of Federal Regulations (7 CFR part 36).

The California Fig Advisory Board requested that USDA should revise the United States Standards for Grades of Dried Figs. The Board provided information on style, sample size and descriptions to AMS to revise the standard. A series of meetings were held between representatives of the fig industry and AMS staff. The industry representatives arrived at a consensus and submitted a letter to AMS with the revisions they desired to be incorporated into the standard.

Based on the submitted information, AMS is proposing to revise the standard for dried figs following the standard format for U.S. grade Standards. AMS is proposing to eliminate the present Grade “A” quality level and to change the present Grade “B” to the new Grade “A”. This proposal also will elevate the present Grade “C” quality level to a new Grade “B” quality level and thereby eliminate the present Grade “C” quality level. The existing grade level “Substandard” will remain the same. This proposal would establish grade levels “A”, “B” and “Substandard” and with corresponding score points assigned for each level. A proposed tolerance for each quality factor for each grade level would be established. These changes are proposed to bring the standard for dried figs in line with present quality levels being marketed today and provide guidance in the effective utilization of dried figs. The grade of a sample unit of dried figs is ascertained by considering the factors of varietal characteristics, size, moisture, and flavor and odor which are not scored; the ratings for the factors of color, uniformity of size, defects, and maturity and development, which are scored; the total score; and the limiting rules which apply. The grade of a lot of dried figs covered by these standards is determined by the procedures set forth in the Regulations Governing Inspection and Certification of Processed Products Thereof, and Certain Other Processed Foods Products (§ 52.1 to § 52.83).

This notice provides for a 60 day comment period for interested parties to comment on changes to the standards.

Authority: 7 U.S.C. 1621-1627.

Dated: May 3, 2001.
Kenneth C. Clayton,
Acting Administrator, Agricultural Marketing Service.

[FR Doc. 01-11688 Filed 5-8-01; 8:45 am]

BILLING CODE 3410-02-P